ENVIRONMENTAL PROTECTION AGENCY

[OW-2003-0014, FRL-7473-6]

Agency Information Collection Activities: Proposed Collection; Comment Request; Surveys to Determine the Effectiveness of No-Discharge Zones for Vessel Sewage and Marine Sanitation Devices

AGENCY: Environmental Protection Agency.

ACTION: Notice.

SUMMARY: In compliance with the Paperwork Reduction Act (44 U.S.C. 3501 et seq.), this document announces that EPA is planning to submit the following proposed Information Collection Request (ICR) to the Office of Management and Budget (OMB): Surveys to Determine the Effectiveness of No-Discharge Zones for Vessel Sewage and Marine Sanitation Devices, EPA ICR No. 2107.01. Before submitting the ICR to OMB for review and approval, EPA is soliciting comments on specific aspects of the proposed information collection as described below.

DATES: Comments must be submitted on or before May 27, 2003.

ADDRESSES: Follow the detailed instructions in SUPPLEMENTARY INFORMATION.

FOR FURTHER INFORMATION CONTACT: James Woodley, Oceans and Coastal Protection Division, Office of Water, Environmental Protection Agency, 4504T, 1200 Pennsylvania Ave., NW., Washington, DC 20460; telephone number:

(202) 566-1287; fax number: (202) 566-1546; email address: woodley.james@epa.gov.

SUPPLEMENTARY INFORMATION: EPA has established a public docket for this ICR under Docket ID number OW-2003-0014, which is available for public viewing at the Water Docket in the EPA Docket Center (EPA/DC), EPA West, Room B102, 1301 Constitution Ave., NW., Washington, DC 20460. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, according to the following detailed instructions: (1) Submit your comments to EPA online using EDOCKET (our preferred method), by email to ow-docket@epa.gov, or by mail to: EPA Docket Center, Environmental Protection Agency, Water Docket, EPA West, 4101T, 1200 Pennsylvania Ave., NW., Washington, DC 20460.

EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov.edocket.

Affected entities: Entities potentially affected by this action are boat owners and operators, marina owners and operators, State and local governments, marine sanitation device (MSD) manufacturers, U.S. Coast Guard accepted independent laboratories, and other Federal Agencies.

Title: Surveys to Determine the Effectiveness of No-Discharge Zones for Vessel Sewage and Marine Sanitation Devices; EPA ICR Number 2107.01.

Abstract: This ICR requests approval to collect information from boat owners and operators, marina owners and operators, and State and local government officials regarding the effectiveness of no-discharge zones. It also requests approval to collect information regarding the effectiveness of marine sanitation devices (MSDs) in removing harmful pollutants from the waste stream of the device. This information would be gathered from MSD manufacturers and U.S. Coast Guard accepted independent laboratories. Section 312 of the Clean Water Act mandates the use of MSDs on all vessels with installed toilets. There are three types of MSDs. Type I and Type II MSDs provide treatment of sewage that is to be discharged and rely on a variety of different technologies for treatment prior to discharge including maceration, chlorination, heating, filtering, and biological processes. Type III MSDs are holding tanks that provide minimal sewage treatment and can be installed on vessels of any size. Installed toilets on vessels of 65 ft. or less in length may be equipped with any of the three types of MSDs. Type I MSDs, which are only applicable to vessels up to 65 ft. in length, are required to produce an effluent with a fecal coliform bacteria count less than or equal to 1000 bacteria per 100 ml of seawater with no visible floating solids. For vessels greater than 65 ft., all installed toilets must be equipped with either Type II or Type III MSDs. The Type II MSDs are required to produce effluent with a fecal coliform count less than or equal to 200 bacteria per 100 ml of seawater and suspended solids less than or equal to 150 mg/l. Type III MSDs are holding tanks that are designed to prevent overboard discharge of any sewage. Also under section 312 of the Clean Water Act, with EPA's approval, States may designate a portion or all of their waters as no-discharge zones making all vessel sewage discharges illegal. States may designate their waters as no-discharge zones for vessel sewage to achieve any of the following objectives: (1) To protect aquatic habitats; (2) to protect special aquatic habitats or species such as coral reefs and shellfish beds; and (3) to safeguard human health by protecting drinking water intake zones. Under section 312(f)(3), States designate no-discharge zones for aquatic habitats by demonstrating to EPA that safe and adequate pumpout and dump facilities are available. Currently about 95% of the no-discharge zones designated have been done so under this provision. At a State's request, under sections 312(f)(4)(A) and (B), no-discharge zones for special aquatic habitats and drinking water intake zones, respectively, also can be established by regulation by EPA if the State demonstrates that additional protection of the aquatic environment is required. No-discharge zones established by regulations promulgated by EPA do not require the availability of pumpout or dump facilities. Currently, about 5% of the no-discharge zones for vessel sewage have been designated by regulations promulgated by EPA. This information collection request will focus on the effectiveness of no-discharge zones for vessel sewage designated under Clean Water Act section 312(f)(3) and the effectiveness of current MSD technologies. There would be separate surveys developed for boat owners and operators, marina owners and operators, State and local government officials, MSD manufacturers, and U.S. Coast Guard accepted independent laboratories.

The survey developed for boat owners and operators would address the boater's experience with using pumpout or dump facilities in no-discharge zones. Specifically, the survey would seek information with regards to whether the pumpout or dump facilities were working or not working when the boater attempted to use them. It would address whether the boater would use the facilities if they were available and how often the boaters actually use the facilities. Respondents would be selected from North-Atlantic States, Mid-Atlantic States, California, the Florida Keys, and the Great Lakes. Approximately, 600 respondents from the geographical regions would be selected for response. The information collection would be voluntary and would not include CBI. The survey developed for marina owners and operators would address the downtime of pumpout and dump facilities located in no-discharge zones and the use of those facilities by boaters. Respondents would be selected from North-Atlantic States, Mid-Atlantic States, California, the Florida Keys, and the Great Lakes. Approximately, 80 marina owners or operators from the geographical regions would be selected for response. The information collection would be voluntary and would not include CBI. Also, a survey would be developed for State and local government officials to determine if the designation of no-discharge zones has been effective in addressing water quality issues of the particular water body, and if boaters were in compliance. Respondents would be selected from North-Atlantic States, Mid-Atlantic States, California, the Florida Keys, and the Great Lakes. Approximately, 100 respondents from the geographical regions would be selected for response. The information collection would be voluntary and would not include CBI. The information collected from the surveys would be used to assess the overall effectiveness of no-discharge zones for vessel sewage established under Clean Water Act section 312(f)(3) to determine if modifications to the program are needed.

An additional survey would be developed to review current MSD technology. The information on MSDs that would be requested includes effluent constituents and their concentrations; bacteria eradication processes and suspended solids removal; and cost and installation. This information would be used to help determine the effectiveness of the current MSD technologies. Approximately, 30 MSD manufacturers and 8 U.S. Coast Guard accepted independent laboratories would be selected for response. Responding to the collection of information would be voluntary. The survey would provide instructions on the procedures for making CBI claims, and the respondents would also be informed of the terms and rules governing protection of CBI obtained under the Clean Water Act. An Agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that 35 marina owners and operators would respond to the survey. It would probably take 20 minutes to complete the survey. Also, EPA estimates that the total burden for marina owners and operators would be 12 hours and $240. EPA estimates that 350 boat owners and operators would respond to the survey, and at a maximum, it would take 20 minutes for each respondent to complete the survey. EPA estimates that the total burden for boat owners and operators would be 117 hours and $1,800. EPA estimates that 70 State and local government officials would respond to the survey, and at a maximum, it would take 2 hours for each respondent to complete the survey. EPA estimates that the total burden for State and local government officials would be 140 hours and $4,900. EPA estimates that 20 MSD manufacturers would respond to the survey, and it would take them approximately 2 hours to complete it. The total burden for MSD manufacturers would be 40 hours, and the total cost would be $800. Lastly, EPA estimates that 7 U.S. Coast Guard accepted independent laboratories would respond to the survey. These laboratories test MSDs to certify that they meet the current MSD standards located at 40 CFR 140.3. It would take each of them approximately 2 hours to complete the survey. The total burden on the U.S. Coast Guard accepted independent laboratories would be 14 hours, and the total cost would be $420. There is no start up or capital cost associated with the surveys described above. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 19, 2003.
Diane C. Regas,
Director, Office of Wetlands, Oceans, and Watersheds.

[FR Doc. 03-7372 Filed 3-26-03; 8:45 am]

BILLING CODE 6560-50-P